DEPARTMENT OF EDUCATION

National Advisory Council on Indian Education (NACIE); Notice of an Open Teleconference Meeting

AGENCY: U.S. Department of Education, National Advisory Council on Indian Education (NACIE).

ACTION: Notice of an open teleconference meeting.

SUMMARY: This notice sets forth the schedule and proposed agenda of an upcoming teleconference meeting of the National Advisory Council on Indian Education (the Council) and is intended to notify the general public of the meeting. This notice also describes the functions of the Council. Notice of the Council's meetings is required under Section 10(a)(2) of the Federal Advisory Committee Act and by the Council's charter.

Agenda: The purpose of the meeting will be for the Council to review and discuss the draft annual NACIE report and make recommendations for finalization and submission.

Date and Time: May 28, 2008; 1 p.m. to 3 p.m. Eastern Standard Time.

Location: The Department of Education will provide a 1-800-call in number for all NACIE members.

Public Comment: Time is scheduled on the agenda to receive public comment at approximately 2:45 p.m. Eastern Standard Time. The public may attend and listen to the proceedings at 400 Maryland Avenue, SW., Room 1W105, Washington, DC 20202.

FOR FURTHER INFORMATION CONTACT: Cathie Carothers, Director, Office of Indian Education, U.S. Department of Education, 400 Maryland Avenue, SW., Washington, DC 20202. Telephone: 202-260-1683. Fax: 202-260-7779.

SUPPLEMENTARY INFORMATION: The National Advisory Council on Indian Education is authorized by Section 7141 of the Elementary and Secondary Education Act. The Committee is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

The purpose of this meeting is to discuss the Council's recommendations for and final development of the Council's Annual Report to Congress.

Individuals who will need accommodations for a disability in order to attend the meeting (e.g., interpreting services, assistance listening devices, or materials in alternative format) should notify Cathie Carothers at (202) 260-7485 no later than May 23, 2008. We will attempt to meet requests for accommodations after this date but cannot guarantee their availability. The meeting site is accessible to individuals with disabilities.

Records are kept of all Council proceedings and are available for public inspection at the Office of Indian Education, United States Department of Education, Room 5C140, 400 Maryland Avenue, SW., Washington, DC 20202.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Kerri L. Briggs,
Assistant Secretary for Elementary and Secondary Education.

[FR Doc. E8-10763 Filed 5-13-08; 8:45 am]

BILLING CODE 4000-01-P